DEPARTMENT OF THE INTERIOR

Office of the Secretary

[188D0102DR DS62400000 DL1000000.000000 DR.62452.18NPS100; OMB Control Number 1084-0034]

Agency Information Collection Activities; Documenting, Managing and Preserving Department of the Interior Museum Collections Housed in Non-Federal Repositories

AGENCY: Office of Acquisition and Property Management, Office of the Secretary, Interior.

ACTION: Notice of information collection; request for comment.

SUMMARY: In accordance with the Paperwork Reduction Act of 1995, we, the Office of Acquisition and Property Management, Office of the Secretary, Department of the Interior are proposing to renew an information collection.

DATES: Interested persons are invited to submit comments on or before May 14, 2018.

ADDRESSES: Send written comments on this information collection request (ICR) to the Office of Management and Budget's Desk Officer for the Department of the Interior by email at OIRA_Submission@omb.eop.gov; or via facsimile to (202) 395-5806. Please provide a copy of your comments to Elizabeth Varner, Office of Acquisition and Property Management, U.S. Department of the Interior, 1849 C Street NW, MS 4262-MIB, Washington, DC 20240; or by email to Elizabeth_Varner@ios.doi.gov. Please reference OMB Control Number 1084-0034 in the subject line of your comments.

FOR FURTHER INFORMATION CONTACT: To request additional information about this ICR, contact Elizabeth Varner by email at Elizabeth_Varner@ios.doi.gov, or by telephone at 202-513-7564.

You may also view the ICR at http://www.reginfo.gov/public/do/PRAMain.

SUPPLEMENTARY INFORMATION: In accordance with the Paperwork Reduction Act of 1995, we provide the general public and other Federal agencies with an opportunity to comment on new, proposed, revised, and continuing collections of information. This helps us assess the impact of our information collection requirements and minimize the public's reporting burden. It also helps the public understand our information collection requirements and provide the requested data in the desired format.

A Federal Register notice with a 60-day public comment period soliciting comments on this collection of information was published on January 17, 2018 (83 FR 2463). No comments were received.

We are again soliciting comments on the proposed ICR that is described below. We are especially interested in public comment addressing the following issues: (1) Is the collection necessary to the proper functions of the Office of Acquisition and Property Management and other DOI bureaus; (2) will this information be processed and used in a timely manner; (3) is the estimate of burden accurate; (4) how might the Office of Acquisition and Property Management enhance the quality, utility, and clarity of the information to be collected; and (5) how might the Office of Acquisition and Property Management minimize the burden of this collection on the respondents, including through the use of information technology.

Comments that you submit in response to this notice are a matter of public record. Before including your address, phone number, email address, or other personal identifying information in your comment, you should be aware that your entire comment—including your personal identifying information—may be made publicly available at any time. While you can ask us in your comment to withhold your personal identifying information from public review, we cannot guarantee that we will be able to do so.

Abstract: The Department of the Interior (DOI) manages an estimated 204 million museum objects in trust for the American public as reported in the DOI Museum Property Management Summary Report Fiscal Year 2016. This diverse collection consists of archaeological artifacts, archives, art, biological specimens, ethnographic objects, geological specimens, historic objects, and paleontological specimens that are owned and managed by ten of the Department's bureaus and offices (bureaus). This information collection request is directed to non-Federal repositories that house DOI museum collections. The information that DOI obtains, on a voluntary basis, concerns DOI museum collections held at non-Federal repositories. Receipt of this information supports the Department's responsibilities for the management of its museum collections.

The information that DOI seeks consists of the following:

A. Catalog Records;

B. Accession Records;

C. Facility Checklist for Spaces Housing DOI Museum Property (Checklist);

D. Inventory of Museum Collections (Inventory); and

E. Input on Collections from Lands Administered by the U.S. Department of the Interior that are Located at Non-Federal Facilities (Input Form).

Although the majority of DOI's collections are housed in various bureau facilities across the nation, approximately ten percent (an estimated more than 25 million objects) are located at approximately 880 non-Federal repositories, primarily state, tribal, and local museums and university departments. Most of the DOI museum artifacts, specimens, and archives housed in non-Federal repositories resulted from authorized scientific research projects on Federal lands, and include collections from the disciplines of archaeology, biology, geology, and paleontology, as well as associated project documentation. Many of these non-Federal repositories have successful, longstanding relationships with the Department.

DOI museum objects cared for in non-Federal repositories are those artifacts, specimens, and archives that are established as Federal property under Federal law, implementing regulations, and Executive Orders. Common law also confers rights to landowners, including the Federal government, such as ownership of property, resources, and other tangible assets existing on or originating from those lands, unless those rights were previously relinquished, sold, awarded, or otherwise reassigned. Also, permits and other agreements for the collection of artifacts and specimens from public lands managed at the time by the Department further establish Federal ownership. In order to maintain accountability of and facilitate access to DOI museum objects, the objects must be documented in the Interior Collection Management System (ICMS), its successor, or in another collection management database from which the necessary data can be imported into ICMS, or its successor.

DOI policy requires that all permitees conducting authorized scientific research and authorized individuals performing compliance activities on DOI-managed lands must ensure that any retained museum specimens or objects collected during a project are: (1) Accessioned and cataloged in ICMS, or its successor, according to DOI standards; and (2) housed in an appropriate museum repository that meets DOI museum standards. These requirements ensure the collections' long-term preservation, protection, and accessibility for research access and use. The majority of current scientific research projects and care of the resulting collections meet these criteria.

Title of Collection: Documenting, Managing and Preserving Department of the Interior Museum Collections Housed in Non-Federal Repositories.

OMB Control Number: 1084-0034.

Form Number: None.

Type of Review: Extension of a currently approved collection.

Respondents/Affected Public: Museums; academic, cultural, and research institutions; and, state or local agencies and institutions.

Total Estimated Number of Annual Respondents: 800.

Total Estimated Number of Annual Responses: 800.

Estimated Completion Time per Response: Varies from 1 hour to 12 hours, depending on activity.

Total Estimated Number of Annual Burden Hours: 3,600 Hours.

Respondent's Obligation: Voluntary.

Frequency of Collection: Maximum of once per year per collection instrument, and likely less frequently.

Total Estimated Annual Nonhour Burden Cost: None.

An agency may not conduct or sponsor and a person is not required to respond to a collection of information unless it displays a currently valid OMB control number.

The authority for this action is the Paperwork Reduction Act of 1995 (44 U.S.C. 3501 et seq).

Megan Olsen,
Director, Office of Acquisition and Property Management.

[FR Doc. 2018-07682 Filed 4-12-18; 8:45 am]

BILLING CODE 4334--63P